DEPARTMENT OF AGRICULTURE

Forest Service

Crupina Vegetation Management, Okanogan and Wenatchee National Forests, Chelan Ranger District, Washington

AGENCY: Forest Service, USDA.

ACTION: Revised notice of intent to prepare an environmental impact statement.

SUMMARY: On October 17, 2002, the USDA, Forest Service, Okanogan and Wenatchee National Forests, published a Notice of Intent (in Federal Register, 67 FR 64082) to prepare an environmental impact statement (EIS) for Crupina Vegetation Management. The current Forest Service vegetation management strategy would be more accurately reflected if this project EIS were titled “Crupina Integrated Weed Management Project”. Therefore, this EIS is revised. Other environmental analyses activities related to past wildfires have delayed the release dates for this EIS. The revised release date for the draft EIS will be July 2003 and the final December 2003.

FOR FURTHER INFORMATION CONTACT: Jim Archambeault, Crupina Project Team Leader, Okanogan-Wenatchee National Forests; phone: (509) 997-9738 or Mallory Lenz, Wildlife Biologist, Chelan Ranger District, phone (509) 682-2576.

April 9, 2003.
Michael C. Ash,
Deputy Regional Forester, Pacific Northwest Region.

[FR Doc. 03-9140 Filed 4-14-03; 8:45 am]

BILLING CODE 3410-11-M